DEPARTMENT OF TRANSPORTATION

National Highway Traffic Safety Administration

49 CFR Part 535

[Docket No. NHTSA-2014-0074]

Notice of Intent To Prepare an Environmental Impact Statement for New Medium- and Heavy-Duty Vehicle Fuel Efficiency Improvement Program Standards

AGENCY: National Highway Traffic Safety Administration (NHTSA), Department of Transportation (DOT).

ACTION: Notice of intent; request for scoping comments.

SUMMARY: NHTSA plans to prepare an Environmental Impact Statement (EIS) to analyze the potential environmental impacts of new fuel efficiency standards for commercial medium- and heavy-duty on-highway vehicles and work trucks (potentially covering engines, chassis, vehicles, and/or trailers manufactured after model year 2018) that will be proposed by the agency pursuant to the Energy Independence and Security Act of 2007. This document initiates the scoping process for determining the scope of issues to be addressed in the EIS and for identifying the significant environmental issues related to the proposed action. Further, it discusses cooperating agencies, the environmental review process, and the agency's tentative planning and decision-making schedule. NHTSA invites the participation of Federal, State, and local agencies, Indian tribes, stakeholders, and the public in this process to help identify the significant issues and reasonable alternatives to be examined in the EIS, and to eliminate from detailed study the issues that are not significant.

DATES: The scoping process will culminate in the preparation and issuance of a Draft EIS (DEIS), which will be made available for public comment. To ensure that NHTSA has an opportunity to fully consider scoping comments and to facilitate NHTSA's prompt preparation of the DEIS, scoping comments should be received on or before August 8, 2014. NHTSA will try to consider comments received after that date to the extent the rulemaking schedule allows.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Room W12-140, 1200 New Jersey Avenue SE., Washington, DC 20590.

• Hand Delivery or Courier: U.S. Department of Transportation, West Building, Ground Floor, Room W12-140, 1200 New Jersey Avenue SE., Washington, DC, between 9 a.m. and 5 p.m. Eastern time, Monday through Friday, except Federal holidays.

• Fax: 202-493-2251.

Regardless of how you submit your comments, please mention the docket number identified in the heading of this notice. If comments are submitted in hard copy form, please ensure that two copies are provided. If you wish to receive confirmation that your comments were received, please enclose a stamped, self-addressed postcard with the comments. Note that all comments received, including any personal information provided, will be posted without change to http://www.regulations.gov. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How to Read Comments submitted to the Docket: You may read the comments received by Docket Management at the address and times given above. You may also view the documents from the Internet at http://www.regulations.gov. Follow the online instructions for accessing the dockets. The docket ID number and title of this notice are shown at the heading of this notice. Please note that even after the comment closing date, we will continue to file relevant information in the Docket as it becomes available. Further, some people may submit late comments. Accordingly, we recommend that you periodically search the Docket for new material.

FOR FURTHER INFORMATION CONTACT: For technical issues, contact James MacIsaac, Fuel Economy Division, Office of International Policy, Fuel Economy and Consumer Standards, telephone: 202-366-9108; for legal issues, contact Russell Krupen, Legislation & General Law Division, Office of the Chief Counsel, telephone: 202-366-1834, at the National Highway Traffic Safety Administration, 1200 New Jersey Avenue SE., Washington, DC 20590.

SUPPLEMENTARY INFORMATION: In a forthcoming notice of proposed rulemaking (NPRM), NHTSA intends to propose fuel efficiency standards for commercial medium- and heavy-duty on-highway vehicles and work trucks (collectively, “HD vehicles” or “heavy-duty vehicles”) manufactured after model year (MY) 2018 pursuant to the Energy Independence and Security Act of 2007 (EISA).¹ In particular, NHTSA will propose Phase 2 of the Fuel Efficiency Improvement Program (potentially covering engines, chassis, vehicles, and/or trailers manufactured after MY 2018) as part of a joint rulemaking with the Environmental Protection Agency (which will propose new greenhouse gas [GHG] regulations for heavy-duty vehicles). In connection with this action, NHTSA will prepare an Environmental Impact Statement (EIS) to analyze the potential environmental impacts of the proposed HD vehicle fuel efficiency standards and reasonable alternative standards pursuant to the National Environmental Policy Act (NEPA) and implementing regulations issued by the Council on Environmental Quality (CEQ) and NHTSA.² NEPA instructs Federal agencies to consider the potential environmental impacts of their proposed actions and possible alternatives. To inform decision-makers and the public, the EIS will compare the potential environmental impacts of the agency's Preferred Alternative and a spectrum of reasonable alternatives, including a “no action” alternative. As required by NEPA, the EIS will consider direct, indirect, and cumulative impacts of the proposed action and alternatives and will discuss impacts in proportion to their significance.

¹ Public Law 110-140, 121 Stat. 1492 (Dec. 19, 2007) (codified at 49 U.S.C. 32901 et seq.).

² NEPA is codified at 42 U.S.C. 4321-4347. CEQ's NEPA implementing regulations are codified at 40 CFR parts 1500-1508, and NHTSA's NEPA implementing regulations are codified at 49 CFR part 520.

Background: The Energy Policy and Conservation Act of 1975 (EPCA) ³ mandated that NHTSA establish and implement a regulatory program for motor vehicle fuel economy as part of a comprehensive approach to federal energy policy. As codified in Chapter 329 of Title 49 of the U.S. Code, and as amended by EISA, EPCA set forth extensive requirements concerning the establishment of fuel economy standards for passenger cars and light trucks. Pursuant to this statutory authority, NHTSA sets Corporate Average Fuel Economy (CAFE) standards for those vehicles.⁴

³ Public Law 94-163, 89 Stat. 871 (Dec. 22, 1975).

⁴ See Light-Duty Vehicle Greenhouse Gas Emission Standards and Corporate Average Fuel Economy Standards, Final Rule, 75 FR 25324 (May 7, 2010); 2017 and Later Model Year Light-Duty Vehicle Greenhouse Gas Emissions and Corporate Average Fuel Economy Standards, 77 FR 62624 (October 15, 2012).

In December 2007, EISA provided DOT (and by delegation, NHTSA ⁵) new authority to implement, through rulemaking and regulations, “a commercial medium- and heavy-duty on-highway vehicle ⁶ and work truck ⁷ fuel efficiency improvement program designed to achieve the maximum feasible improvement[.]” ⁸ This provision also directs NHTSA to “adopt and implement appropriate test methods, measurement metrics, fuel economy standards, and compliance and enforcement protocols that are appropriate, cost-effective, and technologically feasible for commercial medium- and heavy-duty on-highway vehicles and work trucks.” ⁹ NHTSA may set “separate standards for different classes of vehicles.” ¹⁰

⁵ The Secretary has delegated responsibility for implementing fuel economy and fuel efficiency requirements under EPCA and EISA to NHTSA. 49 U.S.C. 322(b); 49 CFR 1.95, 501.2.

⁶ EISA added the following definition to the automobile fuel economy chapter of the United States Code: “ `commercial medium- and heavy-duty on-highway vehicle' means an on-highway vehicle with a gross vehicle weight rating of 10,000 pounds or more.” 49 U.S.C. 32901(a)(7).

⁷ EISA added the following definition to the automobile fuel economy chapter of the United States Code: “ `work truck' means a vehicle that— (A) is rated at between 8,500 and 10,000 pounds gross vehicle weight; and (B) is not a medium-duty passenger vehicle (as defined in section 86.1803-01 of title 40, Code of Federal Regulations, as in effect on the date of the enactment of [EISA]).” 49 U.S.C. 32901(a)(19).

⁸ 49 U.S.C. 32902(k)(2).

⁹ Id.

¹⁰ Id. For background on the HD vehicle segment, issues related to regulating this segment, and fuel efficiency improvement technologies available for these vehicles, see the reports recently issued by the National Academy of Sciences. National Research Council, Technologies and Approaches to Reducing the Fuel Consumption of Medium- and Heavy-Duty Vehicles, Washington, DC (The National Academies Press, 2010), available at http://www.nap.edu/catalog.php?record_id=12845 (last accessed April 25, 2014); National Research Council, Reducing the Fuel Consumption and Greenhouse Gas Emissions of Medium- and Heavy-Duty Vehicles, Phase Two: First Report, Washington, DC (The National Academies Press, 2014), available at http://www.nap.edu/catalog.php?record_id=18736 (last accessed April 25, 2015).

EISA also provides requirements for lead time and regulatory stability. New fuel efficiency improvement program standards that NHTSA adopts pursuant to EISA must provide not less than 4 full model years of regulatory lead-time and 3 full model years of regulatory stability.¹¹ Finally, EISA directs that NHTSA's HD rulemaking must be conducted in consultation with the Environmental Protection Agency (EPA) and the Department of Energy.¹²

¹¹ 49 U.S.C. 32902(k)(3).

¹² 49 U.S.C. 32902(k)(2). As discussed later in this document, both agencies have been invited to serve as cooperating agencies on this EIS.

On May 21, 2010, the President issued a memorandum to the Secretary of Transportation, the Secretary of Energy, the Administrator of EPA, and the Administrator of NHTSA that called for coordinated regulation of the heavy-duty vehicle market segment under EISA and under the Clean Air Act.¹³ NHTSA and EPA met that directive in August 2011 by finalizing first-of-a-kind standards for new HD engines and vehicles in MYs 2014 through 2018 (“Phase 1”).¹⁴ The performance-based standards created a national program requiring manufacturers to meet targets for fuel efficiency and greenhouse gas emissions. The Phase 1 standards are expected to save vehicle owners and operators an estimated $50 billion in fuel costs over the lifetime of those vehicles while also reducing oil consumption by a projected 530 billion barrels and greenhouse gas pollution by approximately 270 million metric tons.¹⁵

¹³ See The White House, Office of the Press Secretary, Presidential Memorandum Regarding Fuel Efficiency Standards (May 21, 2010), available at http://www.whitehouse.gov/the-press-office/presidential-memorandum-regarding-fuel-efficiency-standards (last accessed April 25, 2014); see also The White House, Office of the Press Secretary, President Obama Directs Administration to Create First-Ever National Efficiency and Emissions Standards for Medium- and Heavy-Duty Trucks (May 21, 2010), available at http://www.whitehouse.gov/the-press-office/president-obama-directs-administration-create-first-ever-national-efficiency-and-em (last accessed April 25, 2014).

¹⁴ See Greenhouse Gas Emissions Standards and Fuel Efficiency Standards for Medium- and Heavy-Duty Engines and Vehicles, 76 FR 57106 (September 15, 2011).

¹⁵ See White House Announces First Ever Oil Savings Standards for Heavy Duty Trucks, Buses (August 9, 2011), available at http://www.nhtsa.gov/About+NHTSA/Press+Releases/2011/White+House+Announces+First+Ever+Oil+Savings+Standards+for+Heavy+Duty+Trucks,+Buses (last accessed April 28, 2014). For more information on the rulemaking, see also EPA Regulatory Announcement, EPA and NHTSA Adopt First-Ever Program to Reduce Greenhouse Gas Emissions and Improve Fuel Efficiency of Medium- and Heavy-Duty Vehicles (August 2011), available at http://www.epa.gov/otaq/climate/documents/420f11031.pdf (last accessed April 28, 2014).

Continued improvement in the efficiency of HD vehicles is a key component of the President's 2013 Climate Action Plan to reduce carbon emissions.¹⁶ Building on the success of Phase 1 of the program, in a February 18, 2014 Presidential Announcement, the President directed NHTSA and EPA to finalize the next phase of HD vehicle fuel efficiency and greenhouse gas standards by March 31, 2016.¹⁷ Under this timeline, the agencies expect to issue a Notice of Proposed Rulemaking by March 2015.

¹⁶ Executive Office of the President, The President's Climate Action Plan (June 2013), available at http://www.whitehouse.gov/sites/default/files/image/president27sclimateactionplan.pdf (last accessed April 28, 2014).

¹⁷ See FACT SHEET—Opportunity For All: Improving the Fuel Efficiency of American Trucks—Bolstering Energy Security, Cutting Carbon Pollution, Saving Money and Supporting Manufacturing Innovation (February 18, 2014), available at http://www.whitehouse.gov/the-press-office/2014/02/18/fact-sheet-opportunity-all-improving-fuel-efficiency-american-trucks-bol (last accessed April 28, 2014); Improving the Fuel Efficiency of American Trucks—Bolstering Energy Security, Cutting Carbon Pollution, Saving Money and Supporting Manufacturing Innovation (February 2014), available at http://www.whitehouse.gov/sites/default/files/docs/finaltrucksreport.pdf (last accessed April 28, 2014).

In developing Phase 2 standards, the agencies are instructed to partner with industry leaders and other key stakeholders, including manufacturers, labor, States, and non-governmental organizations. To this end, EPA and NHTSA will consult with the California Air Resources Board (CARB) with the goal of ensuring that the next phase of standards allows manufacturers to continue to build a single national fleet.¹⁸ The Phase 2 standards are expected to spur manufacturing innovation and lead to the adoption of new fuel-efficient technologies on trucks and semi-trailers. EPA and NHTSA will assess advanced technologies that may not currently be in production, and will consider, for example: Engine and powertrain efficiency improvements, aerodynamics, weight reduction, improved tire rolling resistance, hybridization, natural gas engines and converters, automatic engine shutdown, and/or accessory improvements (e.g., water pumps, fans, auxiliary power units, and air conditioning).¹⁹ For more information and further updates on the program, please see the agencies' Web sites.²⁰

¹⁸ Id.

¹⁹ Id.

²⁰ For NHTSA, see http://www.nhtsa.gov/fuel-economy (last accessed April 28, 2014); for EPA, see http://www.epa.gov/otaq/climate/regs-heavy-duty.htm (last accessed April 28, 2014).

NHTSA will prepare an EIS to analyze the potential environmental impacts of its proposed HD vehicle fuel efficiency standards and reasonable alternative standards. This Notice of Intent initiates the scoping process for the EIS under NEPA, 42 U.S.C. 4321-4347, and implementing regulations issued by CEQ, 40 CFR parts 1500-1508, and NHTSA, 49 CFR part 520.²¹ Specifically, this Notice of Intent requests public input on the scope of NHTSA's NEPA analysis and the significant environmental issues relating to more stringent fuel efficiency standards for HD vehicles.

²¹ See 40 CFR 1501.7, 1508.22; 49 CFR 520.21(g).

The Alternatives: NHTSA's upcoming NPRM will propose standards for HD vehicles manufactured after MY 2018. The HD sector is extremely diverse in several respects, including types of manufacturing companies involved, the range of sizes of trucks and engines they produce, the types of work the trucks are designed to perform, and the regulatory history of different subcategories of vehicles and engines. The current HD fleet encompasses vehicles from the “18-wheeler” combination tractors one sees on the highway to school and transit buses, to vocational vehicles such as utility service trucks, as well as the largest pickup trucks and vans. Compared to the light-duty sector, there is a much larger number of heavy-duty truck manufacturers, which vary in size and level of build process integration. For example, some trucks are assembled by a body builder using components from an engine manufacturer, a powertrain manufacturer, component suppliers, and a chassis builder. Each of these separate stakeholders has an impact on the fuel efficiency of the truck. NHTSA is therefore developing Phase 2 in recognition of the complex industry structure and providing for increasing coverage of the opportunities for fuel efficiency improvement.

Under NEPA, the purpose of and need for an agency's action inform the range of reasonable alternatives to be considered in its NEPA analysis.²² In developing alternatives for analysis in the EIS, NHTSA must consider EISA's requirements for the HD fuel efficiency program noted above. 49 U.S.C. 32902(k)(2) and (3) contain the following three requirements specific to the HD vehicle fuel efficiency improvement program: (1) The program must be “designed to achieve the maximum feasible improvement”; (2) the various required aspects of the program must be appropriate, cost-effective, and technologically feasible for HD vehicles; and (3) the standards adopted under the program must provide not less than four model years of lead time and three model years of regulatory stability. In considering these various requirements, NHTSA will also account for relevant environmental and safety considerations.

²² 40 CFR 1502.13.

Due to the diversity of the HD industry, the Phase 1 rule divided HD vehicles into three regulatory categories: Heavy-duty pick-up trucks and vans (Class 2b and Class 3), vocational vehicle chassis (Class 2b-Class 8), and combination tractors (Class 7 and 8). Phase 1 established separate standards for each of these categories, as well as standards for the engines powering vocational vehicles and combination tractors. Phase 2 may include post-MY 2018 engine and vehicle fuel efficiency standards that are more stringent than those for MYs 2016-2018, as well as regulatory standards and certification requirements for previously unregulated new trailers pulled by semi-tractors. The following discusses each of these regulatory categories in turn.

• Class 2b and 3 Heavy-Duty Pick-Up Trucks and Vans: Heavy-duty pickup trucks and vans are used chiefly as work trucks and vans, as shuttle vans, and for personal transportation, with an average annual mileage in the range of 13,000-14,000 miles. Class 2b and 3 pick-up trucks and vans have up to 14,000 lbs. gross vehicle weight rating, with about 90 percent of them being ¾-ton and 1-ton pickup trucks, 12- and 15-passenger vans, and large work vans that are sold by vehicle manufacturers as complete vehicles, with no secondary manufacturer making substantial modifications prior to registration and use. These vehicle manufacturers are companies with major light-duty markets in the United States. Furthermore, the technologies available to reduce fuel consumption and GHG emissions from this segment are similar to the technologies used on light-duty pickup trucks, including both engine efficiency improvements (for gasoline and diesel engines) and vehicle efficiency improvements.

• Class 2b-8 Vocational Vehicle Chassis: Vocational vehicles, which may span Classes 2b through 8, vary widely in size and use, including smaller and larger van trucks; delivery, utility, tank, flat-bed, and refuse trucks; transit, shuttle, and school buses; fire trucks and other emergency vehicles; motor homes; and tow trucks, among others. The annual mileage of these trucks is as varied as their uses, but for the most part tends to fall in between heavy-duty pickups/vans and the large combination tractors, although some travel more and some less. Vocational vehicles frequently begin as incomplete chassis that can be used for a number of vocational applications. The chassis manufacturers install engines and transmissions from other manufacturers and then sell the chassis to body manufacturers who add appropriate features for the vehicles' final end-use (e.g., dump bed, delivery box, or utility bucket). Phase 1 created a new vehicle certification and compliance program for vocational chassis manufacturers, which relies on a computer simulation of vehicle CO2 emissions and fuel consumption rather than on emissions testing. Vocational body manufacturers were not regulated in Phase 1.

• Class 7 and 8 Combination Tractors: Class 7 and 8 combination tractor-trailers ²³—some equipped with sleeper cabs and some not—are used for freight transportation. Tractors sometimes run without a trailer in between loads, but most of the time they run with one or more trailers that can carry up to 50,000 pounds or more of payload, consuming significant quantities of fuel and producing significant amounts of GHG emissions. Class 7 and 8 combination tractors and their engines contribute approximately 65 percent of the total GHG emissions and fuel consumption of the heavy-duty sector due to their large payloads, their high annual miles traveled (sometimes more than 150,000 miles per year), and their major role in national freight transport. In general, reducing GHG emissions and fuel consumption from these vehicles may involve improvements in aerodynamics, tires, and engine-based efficiency, reduction in idle operation, and improvements in or installation of other technologies. Fleet owners and truck owner/operators were not regulated in Phase 1.

²³ These vehicles consist of a cab and engine (tractor or combination tractor) and a detachable trailer. In general, the heavy-duty combination tractor industry consists of tractor manufacturers (which manufacture the tractor chassis and bodies and either install their own engines or purchase and install engines from separate engine manufacturers) and trailer manufacturers. These manufacturers are not the same entity. For this and other reasons, Phase 1 treated these as separate regulatory categories.

• Engines: Phase 1 required that engines used in heavy-duty vehicles be separately certified by their manufacturer to meet GHG emissions and fuel efficiency standards using the same test procedures used to certify engines for criteria pollutants, unless the vehicle is allowed to be chassis-certified (typically, Class 2b and 3 heavy-duty pick-up trucks and vans) whereby the separate engine certification is not required. Phase 1 engine standards vary depending on engine size linked to intended vehicle service class and use. In particular, the agencies created separate standards for spark-ignition (traditionally gasoline-fueled) and compression-ignition (traditionally diesel-fueled) engines. In addition, in Phase 1, standards for natural gas engines were identical to those for either the diesel- or gasoline-fueled engines, depending on the natural gas engine architecture.

• Semi-trailers: Semi-trailers pulled by Class 7 and 8 tractors were considered but ultimately excluded from the Phase 1 final regulations. Since 2011, EPA and NHTSA have initiated several test programs to evaluate fuel efficient and GHG-reducing trailer technologies such as low-rolling resistance tires, aerodynamic technologies, and weight reduction. Phase 2 is expected to consider again the regulation of trailers, such as dry van trailers, refrigerated (reefer) trailers, container chassis, and other trailer types.

NHTSA (in consultation with EPA) is still evaluating the costs and effectiveness of the various technologies available, the potential structure of the program, the stringencies of potential alternatives covering each regulatory category of the HD sector (Class 2b and 3 heavy-duty pick-up trucks and vans, Class 2b through 8 vocational vehicles, Class 7 and 8 combination tractors, trailers, and/or engines), and the range of reasonable alternatives for consideration in this rulemaking and EIS.²⁴ NHTSA will evaluate several factors in developing alternatives for consideration and analysis, including costs for technology development and manufacture, costs that will be paid by heavy-duty vehicle owners and operators, fuel efficiency (and corresponding GHG reduction) benefits, industry structure, and more.

²⁴ Amongst other research and reports, NHTSA will consider the findings contained in the recent National Academies report regarding Phase 2 regulations. See National Research Council. Reducing the Fuel Consumption and Greenhouse Gas Emissions of Medium- and Heavy-Duty Vehicles, Phase Two: First Report. Washington, DC: The National Academies Press, 2014.

NEPA requires agencies to consider a “no action” alternative in their NEPA analyses and to compare the effects of not taking action with the effects of the reasonable action alternatives in order to demonstrate the different environmental effects of the action alternatives.²⁵ In its EIS, NHTSA will consider a “no action” alternative, which assumes, for purposes of NEPA analysis, that NHTSA would not issue a rule regarding HD fuel efficiency standards. Under these circumstances, the existing fuel efficiency standards established for the end of Phase 1 would persist until NHTSA takes additional action.²⁶ NHTSA will refer to this as the “No Action Alternative” or as the “baseline.”

²⁵ See 40 CFR 1502.2(e), 1502.14(d). CEQ has explained that “[T]he regulations require the analysis of the no action alternative even if the agency is under a court order or legislative command to act. This analysis provides a benchmark, enabling decision makers to compare the magnitude of environmental effects of the action alternatives. . . . Inclusion of such an analysis in the EIS is necessary to inform Congress, the public, and the President as intended by NEPA. [See 40 CFR 1500.1(a).]” Forty Most Asked Questions Concerning CEQ's National Environmental Policy Act Regulations, 46 FR 18026 (1981) (emphasis added).

²⁶ The “no action” alternative will also assume that EPA would not issue a rule regarding HD GHG emissions standards. The existing GHG standards established for the end of Phase 1 would also persist indefinitely.

Similar to the approach NHTSA used in its EIS for the MY 2017-2025 light-duty CAFE standards, the EIS will also analyze action alternatives calculated at the lower point and at the upper point of the range the agency believes encompasses reasonable alternatives meeting the purpose and need of the proposed action (i.e., increasing fuel efficiency of HD vehicles in conformity with the requirements of EISA). These lower and upper “bounds” or “brackets” will account for various potential structures for the Phase 2 fuel efficiency improvement program and various levels of stringency for the regulatory categories identified above. These alternatives would bracket the range of actions the agency may select. If additional granularity is necessary, the agency may analyze additional action alternatives within the range.

In the draft EIS (DEIS), NHTSA intends to identify a Preferred Alternative, which may be one of the above-identified alternatives or a level of stringency that falls between those extremes. The Preferred Alternative would reflect what the agency believes is the “maximum feasible improvement” required under EISA, and may require fuel efficiency improvement that is constant throughout the regulatory period or varies from year to year (and from segment to segment) in accordance with predetermined stringency increases that would be established by this rule. However, the overall stringency and impacts will fall at or between the lower and upper brackets discussed above. NHTSA has not yet identified its Preferred Alternative.

The lower and upper bounds of the range of reasonable alternatives would reflect different ways NHTSA could weigh the considerations before the agency in the rulemaking. The lower bound, representing the least stringent fuel efficiency improvement, would reflect more pessimistic assumptions of the appropriateness, feasibility, and cost-effectiveness of various technologies designed to achieve the maximum feasible improvement in fuel efficiency. This alternative might assume, for example, that fuel efficiency improvement technologies are at the upper end of their ranges of potential cost, that technologies are not effectively deployable until later in time, that the benefits are at the lower end of their potential range, or that heavy-duty vehicle owners and operators demand more immediate benefits. On the other hand, the upper bound, representing the most stringent fuel efficiency improvement, would reflect more optimistic assumptions of the appropriateness, feasibility, and cost-effectiveness of those technologies. This alternative might assume, for example, that fuel efficiency improvement technologies are at the lower end of their ranges of potential cost, that technologies will be deployed earlier in time, that the benefits are at the higher end of their potential range, or that heavy-duty vehicle owners and operators will accept benefits over the long-term despite higher initial costs.

The range covered will reflect differences in the degree of technology adoption across the fleet, in costs to manufacturers and heavy-duty vehicle owners and operators, and in conservation of fuel and related reductions in GHGs. For example, the most stringent alternative NHTSA will evaluate would likely require, on balance, greater adoption of technology across the fleet than the least stringent alternative NHTSA will evaluate. As a result, the most stringent alternative would impose greater costs and achieve greater energy conservation and related reductions in GHGs.

This range of stringencies, along with the analysis for the Preferred Alternative, would provide a broad range of information for NHTSA to use in evaluating and weighing the statutory factors in EISA. It would also assist the decision-maker in considering the differences and uncertainties in the way in which key economic inputs (e.g., the price of fuel and the social cost of carbon) and technological inputs are estimated or valued.

NHTSA invites comments to ensure that the agency considers a full range of reasonable alternatives in setting new HD vehicle fuel efficiency improvement standards and that the agency identifies the environmental impacts and focuses its analyses on all the potentially significant impacts related to each alternative. Comments may go beyond the approaches and information that NHTSA described above for developing the alternatives and in identifying the potentially significant environmental effects. The agency may modify the proposed alternatives and environmental effects that will be analyzed in depth based upon the comments received during the scoping process and upon further agency analysis.

Planned Analysis: The scoping process initiated by this notice seeks to determine “the range of actions, alternatives, and impacts to be considered” in the EIS and to identify the most important issues for analysis involving the potential environmental impacts of NHTSA's HD vehicle fuel efficiency improvement program.²⁷ NHTSA's NEPA analysis will consider the direct, indirect and cumulative environmental impacts of the proposed post-2018 standards and those of reasonable alternatives.

²⁷ See 40 CFR 1500.5(d), 1501.7, 1508.25.

While the main focus of NHTSA's prior EISs (i.e., the CAFE EISs for MYs 2017-2025,²⁸ 2012-2016,²⁹ and 2011-2015,³⁰ and the HD Phase 1 EIS ³¹) was the quantitative analysis of impacts to energy, air quality, and climate, as well as qualitative analysis of cumulative impacts resulting from climate change, those prior EISs also addressed other potentially affected resources. For example, NHTSA conducted a qualitative review of impacts of the alternatives on water resources, biological resources, land use, hazardous materials, safety, noise, historic and cultural resources, and environmental justice. In the last CAFE EIS, NHTSA also presented a literature synthesis of life-cycle environmental impacts of certain vehicle materials and technologies.³²

²⁸ Final Environmental Impact Statement, Corporate Average Fuel Economy Standards, Passenger Cars and Light Trucks, Model Years 2017-2025, Docket No. NHTSA-2011-0056-2089 (July 2012).

²⁹ Final Environmental Impact Statement, Corporate Average Fuel Economy Standards, Passenger Cars and Light Trucks, Model Years 2012-2016, Docket No. NHTSA-2009-0059-0140 (February 2010).

³⁰ Final Environmental Impact Statement, Corporate Average Fuel Economy Standards, Passenger Cars and Light Trucks, Model Years 2011-2015, Docket No. NHTSA-2008-0060-0605 (October 2008).

³¹ Final Environmental Impact Statement, Medium- and Heavy-Duty Fuel Efficiency Improvement Program, Model Years 2014-2018, Docket No. NHTSA-2010-0079-0151 (June 2011).

³² See Chapter 6 of the CAFE MY 2017-2025 Final EIS.

Similar to past EIS practice, NHTSA plans to analyze environmental impacts related to fuel and energy use, air pollutant emissions including GHGs and their effects on temperature and climate change, air quality, natural resources, and the human environment. NHTSA will consider the direct and indirect impacts of the proposed HD standards, as well as the cumulative impacts ³³ of the proposed standards together with any past, present, and reasonably foreseeable future actions. NHTSA also intends to present a literature synthesis of life-cycle and upstream environmental impacts of vehicle materials and technologies relevant to the improvement of fuel efficiency in HD vehicles. Overall, NHTSA plans to analyze impacts in much the same manner as it did in its prior EISs, particularly the CAFE MY 2017-2025 Final EIS (FEIS), while incorporating by reference any of the relevant discussions from those documents.

³³ In accordance with CEQ regulations, cumulative impacts are “the impact on the environment which results from the incremental impact of the action when added to other past, present, and reasonably foreseeable future actions regardless of what agency (Federal or non-federal) or person undertakes such action.” 40 CFR 1508.7.

Because of the models NHTSA will use for this rulemaking and EIS, the agency anticipates analyzing impacts on fuel/energy use and pollutant emissions through 2050 and impacts on GHG emissions, global temperature, and climate change through 2100. In the CAFE MY 2017-2025 FEIS, NHTSA analyzed impacts on fuel/energy use and pollutant emissions through 2060. However, because HD vehicles generally accumulate the vast majority of their VMT in early years, and because more distant projections contain far more uncertainty, NHTSA believes the analysis year of 2050 for fuel/energy use and air quality will provide sufficient information for the decision-maker to assess the totality of the impacts related to the regulated vehicles. Because climate impacts are more long-term, NHTSA anticipates that the EIS will assess these impacts to 2100.

NHTSA specifically requests comment on its proposed analysis as laid out in the previous paragraphs. For example, do the resources and impacts described represent the significant issues to be analyzed in depth in the EIS? ³⁴ How should the agency assess cumulative impacts, including those from various emissions source categories and across a range of geographic locations? How should the agency distinguish the direct/indirect impacts of its action from the cumulative impacts of its action? Finally, should the cumulative impacts analysis consider emissions and impacts related to only HD vehicles, all on-road motor vehicles, the entirety of the transportation sector, or all sources of such emissions?

³⁴ See 40 CFR 1501.7(a)(2).

The agency anticipates uncertainty in estimating the potential environmental impacts of the alternatives it proposes, particularly with regard to climate change. For instance, NHTSA expects that there will be uncertainty associated with its estimates of the range of potential global mean temperature changes that may result from changes in fuel and energy consumption and GHG emissions due to a range of new HD vehicle fuel efficiency standards. Further, it is difficult to predict and compare the ways in which potential temperature changes attributable to new HD vehicle fuel efficiency standards may, in turn, affect many aspects of the environment. NHTSA will endeavor to gather the key relevant and credible information. Where information is incomplete or unavailable, the agency will acknowledge the uncertainties in its NEPA analysis, and will apply the provisions in the CEQ regulations addressing “[i]ncomplete or unavailable information.” ³⁵

³⁵ See 40 CFR 1502.22.

NHTSA intends to rely primarily upon the Intergovernmental Panel on Climate Change (IPCC) Fourth and Fifth Assessment Reports and reports of the U.S. Climate Change Science Program (CCSP) and the U.S. Global Change Research Program (USGCRP), including the USGCRP Third National Climate Assessment (NCA) Report, as sources for recent “summar[ies] of existing credible scientific evidence which is relevant to evaluating the reasonably foreseeable significant adverse impacts on the human environment.” ³⁶ NHTSA will also rely on National Academies and National Research Council assessments of climate impacts and the EPA Endangerment and Cause or Contribute Findings for Greenhouse Gases under Section 202(a) of the Clean Air Act and the accompanying Technical Support Document (referred to collectively hereinafter as the EPA Endangerment Finding). NHTSA believes that the IPCC Fourth and Fifth Assessment Reports, the USGCRP NCA, National Academies and National Research Council assessments, and the EPA Endangerment Finding are the most recent, most comprehensive summaries available, but recognizes that subsequent peer-reviewed research and other federal agency reports may provide additional relevant and credible evidence not accounted for in these Reports. NHTSA expects to consider such subsequent information as well, to the extent that it provides relevant and credible evidence.

³⁶ 40 CFR 1502.22(b)(3); see 40 CFR 1502.21. The IPCC reports are available at http://www.ipcc.ch/ (last visited April 29, 2014). Information on CCSP and USGCRP can be found at http://www.globalchange.gov/ (last visited May 19, 2014). Information on EPA's Endangerment and Cause or Contribute Findings is available at http://www.epa.gov/climatechange/endangerment/ (last visited April 29, 2014).

NHTSA expects to rely on its previously published EISs, incorporating material by reference “when the effect will be to cut down on bulk without impeding agency and public review of the action.” ³⁷ Therefore, the NHTSA NEPA analysis and documentation will incorporate by reference relevant materials, including portions of the agency's prior NEPA documents, where appropriate.

³⁷ 40 CFR 1502.21.

NHTSA has invited EPA, the Federal Motor Carrier Safety Administration (FMCSA), and the Department of Energy (DOE) to serve as cooperating agencies on this EIS.³⁸ If they accept, these agencies' role in the development of the EIS could include the following as they relate to their area of expertise:

³⁸ Under the CEQ implementing regulations, a cooperating agency is “any Federal agency[, State or local agency, or Indian tribe] other than a lead agency which has jurisdiction by law or special expertise with respect to any environmental impact involved in a proposal (or a reasonable alternative) for . . . [a] major Federal action significantly affecting the quality of the human environment.” 40 CFR 1508.5. See also 40 CFR 1501.6.

• Identifying the significant issues to be analyzed in the EIS from a fuel use, climate change, and air quality perspective for heavy-duty vehicles;

• Participating in the scoping process as appropriate and, in particular, assisting NHTSA to “identify and eliminate from detailed study the issues which are not significant or which have been covered by prior environmental review (§ 1506.3), narrowing the discussion of these issues in the statement to a brief presentation of why they will not have a significant effect on the human environment or providing a reference to their coverage elsewhere;” ³⁹

³⁹ 40 CFR 1501.7(a)(3).

• Providing information and expertise on manufacture, sale, operation, and maintenance, of heavy-duty vehicles;

• Providing information and expertise related to technologies for improving the fuel efficiency of heavy-duty vehicles;

• Providing technical assistance, information, and expertise for modeling environmental impacts related to manufacture and use of heavy-duty vehicles;

• Participating in coordination meetings, as appropriate; and

• Reviewing and commenting on the DEIS and FEIS prior to publication.

As part of the scoping process, NHTSA will work with cooperating agencies to refine their role, though NHTSA will retain responsibility for the EIS.⁴⁰

⁴⁰ See 40 CFR 1501.7(a)(4).

Scoping and Public Participation: NHTSA's NEPA analysis for new HD fuel efficiency improvement program standards will consider the direct, indirect, and cumulative environmental impacts of proposed standards and those of reasonable alternatives. The scoping process initiated by this notice seeks public comment on the range of alternatives under consideration, and on the most important issues for in-depth analysis in the EIS.⁴¹

⁴¹ See 40 CFR 1500.5(d), 1501.7, 1508.25.

NHTSA invites all Federal agencies, Indian Tribes, State and local agencies, stakeholders, and the public to participate in the scoping process.⁴² Please submit written comments concerning the appropriate scope of the NEPA analysis for proposed HD vehicle fuel efficiency standards to the docket number identified in the heading of this notice, using any of the methods described in the ADDRESSES section of this notice. NHTSA does not plan to hold a public scoping meeting, because past experience indicates that written comments will be effective in identifying and narrowing the issues for analysis.

⁴² Consistent with NEPA and implementing regulations, NHTSA is sending this notice directly to: (1) Federal agencies having jurisdiction by law or special expertise with respect to the environmental impacts involved or authorized to develop and enforce environmental standards; (2) the Governors of every State, to share with the appropriate agencies and offices within their administrations and with the local jurisdictions within their States; (3) organizations representing state and local governments and Indian tribes; and (4) other stakeholders that NHTSA reasonably expects to be interested in the NEPA analysis for the HD vehicle fuel efficiency standards. See 42 U.S.C. 4332(2)(C); 49 CFR 520.21(g); 40 CFR 1501.7, 1506.6.

All comments relevant to the scoping process are welcome. Specifically, NHTSA requests:

• Peer-reviewed scientific studies that have been issued since the EPA Endangerment Finding and that address or may inform: (a) The impacts on CO2 and other GHG emissions that may be associated with any of the alternatives under consideration; (b) the impacts from climate change that may be associated with these emission changes; or (c) the time periods over which such impacts may occur. NHTSA is particularly interested in peer-reviewed studies analyzing the potential impacts of climate change within the United States or in particular geographic areas of the United States.

• Comments on how NHTSA should estimate the potential changes in temperature that may result from the changes in CO2 emissions projected from setting new HD fuel efficiency standards, and comments on how NHTSA should estimate the potential impacts of temperature changes on the environment.

• Comments on how NHTSA should discuss or estimate any localized or regional impacts of decreased fuel use, including potential upstream impacts (e.g., changes in fuel use and emissions levels resulting from the extraction, production, storage, and distribution of fuel; changes in materials or other technologies), and comments on how NHTSA should estimate the potential impacts of these localized or regional changes on the environment.

• Comments on what time frame NHTSA should use to evaluate the environmental impacts that may result from setting HD vehicle fuel efficiency standards.

• Comments on emerging environmental issues that should be considered when setting standards.

NHTSA understands that there are a variety of potential alternatives that could be considered that fit within the purpose and need for the proposed rulemaking, as set forth in EISA. NHTSA is therefore interested in comments on how best to structure or describe proposed alternatives for purposes of evaluation under NEPA. Subject to the statutory restraints under EISA, a variety of potential alternatives could be considered within the purpose and need for the proposed rulemaking, each falling along a theoretically infinite continuum of potential standards. As described above, NHTSA plans to address this issue by identifying alternatives at the upper and lower bounds of a range within which we believe the statutory requirement for “maximum feasible improvement” ⁴³ would be satisfied, as well as identifying and analyzing the impacts of a preferred alternative. In this way, NHTSA expects to bracket the potential environmental impacts of the standards it may select.⁴⁴

⁴³ See 49 U.S.C. 32902(k)(2).

⁴⁴ Should NHTSA ultimately choose to set standards at levels other than the Preferred Alternative, we believe that this bracketing will properly inform the decision-maker, so long as the standards are set within its bounds. This methodology permits the analysis of a range of reasonable alternatives the agency may pick, while providing the agency flexibility to select the alternative based on the most up-to-date information and analyses available at that time.

NHTSA seeks comments on what criteria should be used to choose the Preferred Alternative, given the agency's statutory requirement of developing a “program designed to achieve the maximum feasible improvement.” ⁴⁵ When suggesting an approach, please explain how it would satisfy the EISA requirements (in particular, how and why it would be “appropriate, cost-effective, and technologically feasible”) and give effect to NEPA's policies.⁴⁶

⁴⁵ 49 U.S.C. 32902(k)(2).

⁴⁶ See 49 U.S.C. 32902(k)(2); 40 CFR 1502.14, Alternatives Including the Proposed Action (explaining what agencies should include in the alternatives section of an EIS).

In addition, as noted above, NHTSA requests comments on how the agency should assess cumulative impacts, including those from various emissions source categories and from a range of geographic locations. Also in regard to cumulative impacts, the agency requests comments on how to consider the incremental impacts from foreseeable future actions of other agencies or persons, and how they might interact with the HD vehicle fuel efficiency improvement program's incremental impacts.

Two important purposes of scoping are identifying the significant issues that merit in-depth analysis in the EIS and identifying and eliminating from detailed analysis the issues that are not significant and therefore require only a brief discussion in the EIS.⁴⁷ The more specific your comments are, and the more support you can provide by directing the agency to peer-reviewed scientific studies and reports as requested above, the more useful your comments will be to the agency. For example, if you identify an additional area of impact or environmental concern you believe NHTSA should analyze, or an analytical tool or model that you believe NHTSA should use to evaluate these environmental impacts, you should clearly describe it and support your comments with a reference to a specific peer-reviewed scientific study, report, tool or model. Specific, well-supported comments will help the agency prepare an EIS that is focused and relevant, and will serve NEPA's overarching aims of making high quality information available to decision-makers and the public by “concentrat[ing] on the issues that are truly significant to the action in question, rather than amassing needless detail.” ⁴⁸ By contrast, mere assertions that the agency should evaluate broad lists or categories of concerns, without support, will likely not assist the scoping process for the proposed standards.

⁴⁷ 40 CFR 1500.4(g), 1501.7(a).

⁴⁸ 40 CFR 1500.1(b).

Written comments should include an Internet citation (with a date last visited) to each peer-reviewed study or report you cite in your comments if one is available. If a document you cite is not available to the public online, you should attach a copy to your comments ⁴⁹ or describe the study with sufficient detail to allow the agency to determine whether its contents warrant further analysis and potential inclusion in the EIS. Your comments should indicate how each document you cite, attach, or describe is relevant to the rulemaking or NEPA analysis, and indicate the specific pages and passages in the attachment that are most informative.

⁴⁹ Many studies or reports are subject to distribution limitations under U.S. copyright law. Please do not attach the document to your written comments if it would violate U.S. copyright law to make that document available to the public in the agency's docket.

In the past, some commenters have incorporated by reference comments they or others have previously submitted with regard to other EISs prepared by NHTSA. To the degree those previously submitted comments do not relate to the current EIS, have already been responded to by the agency in a prior EIS, or have been addressed by changes in the prior or current EISs, NHTSA will not provide a direct response in the current DEIS or FEIS. If a commenter does not believe the issues raised in those previously submitted comments have been fully addressed by the agency, the commenter may choose to raise the issue again, but should provide sufficient explanation and supporting material in comments submitted to the agency with regard to the current EIS (including comments submitted during scoping).

Please be sure to reference the docket number identified in the heading of this document in your comments. NHTSA may communicate with interested parties by email. Thus, please also provide an email address (or a mailing address if you decline email communications).⁵⁰ These steps will help NHTSA manage a large volume of material during the NEPA process. All comments and materials received, including the names and addresses of the commenters who submit them, will become part of the administrative record and will be posted on the web at http://www.regulations.gov.

⁵⁰ If you prefer to receive NHTSA's NEPA correspondence by U.S. mail, NHTSA intends to provide its NEPA publications via a CD readable on a personal computer.

NHTSA expects to prepare an NPRM and DEIS for public comment by March 2015, and an FEIS and final rule by March 2016. NHTSA will make its DEIS and FEIS available on the agency's Web site (http://www.nhtsa.dot.gov/fuel-economy) ⁵¹ and in the docket identified at the beginning of the notice. NHTSA will mail notices of the availability of environmental documents to Federal agencies with jurisdiction by law or special expertise (including cooperating agencies), States, Indian tribes, commenters, stakeholders (e.g., vehicle, trailer, or engine manufacturers, trade organizations, and environmental organizations the agency has identified), and national organizations that have requested that notice regularly be provided.⁵² EPA will then announce the availability of NHTSA's DEIS and FEIS in Federal Register notices. To reduce its impact on the environment, NHTSA's default method of distribution will be through the Internet by the agency's Web site and online docket (http://www.regulations.gov). However, NHTSA will create limited quantities of the EIS on CD-ROMs and in hard-copy printed books for those who require and specifically request to receive it in those formats.⁵³

⁵¹ NHTSA will also post information about the NEPA process and the HD vehicle fuel efficiency improvement program rulemaking on this Web site.

⁵² Members of the public, including national organizations, may request that notice of the availability of environmental documents be provided directly to them. To be included on this transmittal list, please provide your email address or mailing address to NHTSA by email (NHTSA.NEPA_Mailing@dot.gov) or regular mail (James MacIsaac, 1200 New Jersey Ave. SE., W43-444, Washington, DC 20590).

⁵³ Such requests may be made by email or regular mail at the addresses indicated in the previous footnote. Please be advised that requests received after January 1, 2015 may result in delayed receipt of a CD-ROM or hard copy.

David M. Hines,
Acting Associate Administrator for Rulemaking.

[FR Doc. 2014-16005 Filed 7-8-14; 8:45 am]

BILLING CODE 4910-59-P